DEPARTMENT OF TRANSPORTATION

National Highway Traffic Safety Administration

[Docket No. NHTSA-2024-0017]

Agency Information Collection Activities; Notice and Request for Comment; Vehicle Information for the General Public

AGENCY: National Highway Traffic Safety Administration (NHTSA), Department of Transportation (DOT).

ACTION: Notice and request for comments on a revision of a currently approved collection of information.

SUMMARY: The National Highway Traffic Safety Administration (NHTSA) seeks public comment about our intention to request the Office of Management and Budget's (OMB) approval on the revision of a currently approved information collection. Before a Federal agency can collect certain information from the public, it must receive approval from OMB. Under procedures established by the Paperwork Reduction Act (PRA) of 1995, before seeking OMB approval, Federal agencies must solicit public comment on proposed collections of information, including extensions, reinstatements, and renewals of previously approved collections. This document describes one collection of information concerning vehicle safety features for consumer information purposes for which NHTSA intends to seek OMB approval on Vehicle Information for the General Public (OMB Control number 2127-0629).

DATES: Comments should be submitted on or before March 3, 2025.

ADDRESSES: You may submit comments [identified by Docket No. NHTSA-2024-0017] through one of the following methods:

• Federal eRulemaking Portal: Go to http://www.regulations.gov. Follow the online instructions for submitting comments.

• Mail: Docket Management Facility; M-30, U.S. Department of Transportation, West Building Ground Floor, Rm. W12-140, 1200 New Jersey Avenue SE, Washington, DC 20590.

• Hand Delivery or Courier: West Building Ground Floor, Room W12-140, 1200 New Jersey Avenue SE, Washington, DC 20590 between 9 a.m. and 5 p.m. Eastern Time, Monday through Friday, except Federal holidays.

• Fax: (202) 493-2251.

Regardless of how you submit your comments, please be sure to mention the docket number of this document and identify the proposed collection of information for which a comment is provided, by referencing its OMB clearance number.

Note: All comments received will be posted without change to http://www.regulations.gov, including any personal information provided. Anyone can search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov or the street address listed above. Follow the online instructions for accessing the dockets.

FOR FURTHER INFORMATION CONTACT: Complete copies of each request for collection of information may be obtained at no charge from Ms. Jennifer Lee, U.S. Department of Transportation, NHTSA, 1200 New Jersey Ave. SE, Washington, DC 20590. Ms. Lee's telephone number is (202) 366-7695. Please identify the relevant collection of information by referring to its OMB Control Number.

SUPPLEMENTARY INFORMATION: Under the PRA of 1995, before an agency submits a proposed collection of information to OMB for approval, it must first publish a document in the Federal Register providing a 60-day comment period and otherwise consult with members of the public and affected agencies concerning each proposed collection of information. In compliance with these requirements, NHTSA asks for public comment on the following proposed collection of information:

Title: Vehicle Information for the General Public.

OMB Control Number: 2127-0629.

Type of Request: Revision of a currently approved collection.

Type of Review Requested: Regular.

Length of Approval Requested: 3 Years.

Summary of the Collection of Information: NHTSA's mission is to save lives, prevent injury, and reduce motor vehicle crashes. Consumer information programs are an important tool for improving vehicle safety through market forces. Pursuant to 49 U.S.C. 32302, the Secretary of Transportation (NHTSA by delegation) is directed to provide to the public the following information about passenger motor vehicles: damage susceptibility; crashworthiness, crash avoidance, and any other areas the Secretary determines will improve safety of passenger motor vehicles; and the degree of difficulty of diagnosis and repair of damage to, or failure of, mechanical and electrical systems. NHTSA established the NCAP in 1978 in response to Title II of the Motor Vehicle Information and Cost Savings Act of 1972. For more than 40 years, under its NCAP, NHTSA has been providing consumers with vehicle safety information such as frontal and side crash results, crash avoidance performance test results, rollover propensity, and the availability of a wide array of safety features provided on new model year vehicles. Section 24213(b) of the Bipartisan Infrastructure Law includes requirements to add to NCAP information about advanced crash avoidance technologies and vulnerable road user safety. This revision of a currently approved information collection request includes the statutory addition of these information and the corresponding increase associated with the total annual burden hours. This revision increases the total annual burden hours by 7,005 hours from when this Information Collection Request was last approved (from 1,995 hours to 9,000 hours).

The collection is voluntary and conducted annually. There are approximately 21 vehicle manufacturers that sell passenger cars and light truck vehicles (including sport utility vehicles, pickup trucks, and vans) in the United States with a Gross Vehicle Weight Rating (GVWR) of 10,000 pounds or less, that NHTSA requests annually to respond to this information request. These 21 vehicle manufacturers produce an aggregate of approximately 600 vehicle models including trim lines each year. The information is primarily used to provide information to consumers. It is used to disseminate vehicle safety information via the agency's website at www.nhtsa.gov, on the Monroney labels, in other consumer publications, to address consumer inquiries as well as for internal agency analyses.

NHTSA has another information collection to obtain data related to motor vehicle compliance with the agency's Federal Motor Vehicle Safety Standards. Although the consumer information collection data (requested by NCAP) is distinct and unique from the compliance data, respondents to both collections are similar. Thus, the consumer information collection is closely coordinated with the compliance collection to enable responders to assemble the data more efficiently. The burden is further reduced by sending electronic files to the respondents so that they can enter the data and return it to the agency electronically.

Description of the Need for the Information and Proposed Use of the Information: The consumer information collected will be used to disseminate vehicle safety information via the agency's website at www.nhtsa.gov, on the Monroney labels, in other consumer publications, as well as for internal agency analyses and responses to consumer inquiries. The agency uses this safety feature information when responding to consumer inquiries, conducting research and data analysis as well as analyzing rulemaking petitions and the regulatory impacts of Congressional Acts that require the agency to issue or consider issuing new rules that would mandate certain vehicle safety features. Last but certainly not least, the agency uses this information to help with the selection of certain new model year vehicle models to be tested under NCAP to (1) provide safety ratings on how well the vehicles protect vehicle occupants during the crash and (2) assess advanced driver assistance systems for performance verification.

Affected Public: Manufacturers that sell passenger cars and light truck vehicles (including sport utility vehicles, pickup trucks, and vans) that have a GVWR of 10,000 pounds or less in the United States.

Estimated Number of Respondents: 21.

There are approximately 21 vehicle manufacturers that sell passenger cars and light truck vehicles (including sport utility vehicles, pickup trucks, and vans) in the United States with a GVWR of 10,000 pounds or less, that NHTSA requests annually to respond to this information request.

Frequency: Annually.

Number of Responses: 600.

The 21 vehicle manufacturers produce an aggregate of approximately 600 vehicle models including trim lines each year. Estimates are based on an expected 15 hours to prepare the request for each vehicle model and trim line. In addition, the estimate on total annual burden hours for each task is based on a proportion of the job function (e.g., 40 percent for data entry; 50 percent for technical information validation; 10 percent for technical content approval).

Estimated Total Annual Burden Hours: 9,000 hours.

Number of vehicle models | 600.
Number of hours per vehicle model | 15.
Total annual burden hours | 9,000 = (15 hours/model × 600 models).

| Vehicle models per year | Estimated hours per vehicle | Estimated total annual burden hours
Preparation of Response | 600 | 15 | 9,000

A breakdown of the total annual burden hours (9,000) for this collection of information by labor type is as follows:

Burden hours for data entry = 9,000 hours × 40 percent = 3,600 hours

Burden hours for technical information validation = 9,000 hours × 50 percent = 4,500 hours

Burden hours for technical content approval = 9,000 hours × 10 percent = 900 hours

| Hours by labor type: Percentage of total hours | Hours by labor type: Number of hours
Data Entry | 40% | 3,600
Technical Information Validation | 50 | 4,500
Technical Content Approval | 10 | 900

Estimated Annual Labor Costs: $693,883.

Cost associated with data entry = 3,600 hours × $47.59 ¹ per hour/0.703 ² = $243,704

¹ “Motor Vehicle Manufacturing—May 2023 OEWS Industry-Specific Occupational Employment and Wage Estimates.” April 3, 2024. Business Operations Specialists, Occupation Code 13-1000; Mean Hourly Wage = $47.59. https://www.bls.gov/oes/current/naics4_336100.htm. Accessed August 23, 2024.

² See Table 1 at https://www.bls.gov/news.release/pdf/ecec.pdf for the total compensation rate for the employer for private workers.

Cost associated with technical information validation = 4,500 hours × $54.82 ³ per hour/0.703 = $350,910

³ “Motor Vehicle Manufacturing—May 2023 OEWS Industry-Specific Occupational Employment and Wage Estimates.” April 3, 2024. Mechanical Engineers, Occupation Code 17-2141; Mean Hourly Wage = $54.82. https://www.bls.gov/oes/current/naics4_336100.htm. Accessed August 23, 2024.

Cost associated with technical content approval = 900 hours × $77.54 ⁴ per hour/0.703 = $99,269

⁴ “Motor Vehicle Manufacturing—May 2023 OEWS Industry-Specific Occupational Employment and Wage Estimates.” April 3, 2024. General and Operations Managers, Occupation Code 11-1021; Mean Hourly Wage = $77.54. https://www.bls.gov/oes/current/naics4_336100.htm. Accessed August 23, 2024.

Cost associated with total annual burden hours is $693,883 = ($243,704 + $350,910 + $99,269)

| Average wage | Percent of total compensation | Total compensation rate | Annual hours | Annual labor cost
Data Entry | $47.59 | 70.3% | $67.70 | 3,600 | $243,704
Vehicle Info. Validation | 54.82 | 70.3 | 77.98 | 4,500 | 350,910
Tech. Content Approval | 77.54 | 70.3 | 110.30 | 900 | 99,269
Estimated Annual Labor Cost for This Information Collection: | 693,883

Estimated Total Annual Burden Cost: There are no costs associated with this collection other than the labor costs associated with the burden hours.

Public Comments Invited: The agency seeks comment on any aspect of this information collection, including (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

Authority: The PRA of 1995; 44 U.S.C. chapter 35; and delegation of authority at 49 CFR 1.49, 1.95 and 501.8, and DOT Order 1351.29A.

Raymond R. Posten,
Associate Administrator for Rulemaking.

[FR Doc. 2024-31362 Filed 12-30-24; 8:45 am]

BILLING CODE 4910-59-P